FEDERAL DEPOSIT INSURANCE CORPORATION

[OMB No. 3064-0085; -0149; -0194]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0085; -0149 and -0194).

DATES: Comments must be submitted on or before January 16, 2024.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Recordkeeping and Disclosure Requirements in Connection with Regulation B (Equal Credit Opportunity).

OMB Number: 3064-0085.

Affected Public: Insured state nonmember banks and state savings associations.

Burden Estimate:

Summary of Estimated Annual Burden
[OMB No. 3064-0085]
Information collection description | Type of burden | Obligation to respond | Estimated number of respondents | Estimated average annual frequency of responses | Estimated total annual responses | Estimated time per response | Estimated annual burden (hours)
Credit Reporting History (1002.10) | Reporting | Mandatory | 3,309 | 850 | 2,812,650 | 2 minutes | 93,755
Total Reporting Burden |  |  |  |  |  |  | 93,755
Disclosure for Optional Self-Test (1002.5) | Third-Party Disclosure | Voluntary | 972 | 2,500 | 2,430,000 | 1 minute | 40,500
Notifications (1002.9) | Third-Party Disclosure | Mandatory | 3,309 | 1,715 | 5,674,935 | 2 minutes | 189,165
Appraisal Report Upon Request (1002.12(a)(1)) | Third-Party Disclosure | Mandatory | 3,309 | 190 | 628,710 | 1 minute | 10,479
Notice of Right to Appraisal (1002.14(a)(2)) | Third-Party Disclosure | Mandatory | 3,309 | 1,650 | 5,459,850 | 1 minute | 90,998
Total Third-Party Disclosure Burden |  |  |  |  |  |  | 331,142
Record Retention (Applications, Actions, Pre-Screened Solicitations)(1002.12) | Recordkeeping | Mandatory | 3,309 | 360 | 1,191,240 | 1 minute | 19,854
Record Retention (Self-Testing)(1002.12) | Recordkeeping | Mandatory | 972 | 1 | 972 | 2 hours | 1,944
Record Retention (Self-Testing Self-Correction) (1002.15) | Recordkeeping | Mandatory | 243 | 1 | 243 | 8 hours | 1,944
Total Recordkeeping Burden |  |  |  |  |  |  | 23,742

Total Estimated Annual Burden: 448,639 hours.

General Description of Collection: Regulation B (12 CFR part 1002) issued by the Consumer Financial Protection Bureau, prohibits creditors from discriminating against applicants on any bases specified by the Equal Credit Opportunity Act; imposes, reporting, record keeping and disclosure requirements; establishes guidelines for gathering and evaluating credit information; and requires creditors to give applicants certain written notices. There is no change in the method or substance of the collection.

2. Title: Affiliate Marketing/Consumer Opt-out Notices.

OMB Number: 3064-0149.

Forms: None.

Affected Public: Insured state nonmember banks and state savings associations that have affiliates and consumers that have a relationship with the foregoing.

Burden Estimate:

Summary of Estimated Annual Burden
[OMB No. 3064-0149]
Information collection (obligation to respond) | Type of burden (frequency of response) | Number of respondents | Number of responses per respondent | Time per response (HH:MM) | Annual burden (hours)
Affiliate Marketing Disclosure—Implementation. (Mandatory) | Third-Party Disclosure (Annual) | 8 | 1 | 06:00 | 144
Consumer Opt Out Notices (Voluntary) | Third-Party Disclosure (Annual) | 857,027 | 1 | 00:05 | 71,419
Affiliate Marketing Disclosure—Ongoing (Mandatory) | Third-Party Disclosure (Annual) | 990 | 1 | 02:00 | 1,980
Total Annual Burden (Hours): |  |  |  |  | 73,543
Source: FDIC.

General Description of Collection: Section 214 of the FACT Act requires financial institutions that wish to share information about consumers with their affiliates, to inform such consumers that they have the opportunity to opt out of such marketing solicitations. The disclosure notices and consumer responses thereto comprise the elements of this collection of information. There is no change in the method or substance of the collection.

3. Title: Covered Financial Company Asset Purchaser Eligibility Certification.

OMB Number: 3064-0194.

Forms: 7300/10.

Affected Public: Any individual or entity that is a potential purchaser of assets from (1) the FDIC as receiver for a Covered Financial Company (CFC); or (2) a bridge financial company (BFC) which requires the approval of the FDIC, as receiver for the predecessor CFC and as the sole shareholder of the BFC (e.g., the BFC's sale of a significant business line).

Burden Estimate:

Summary of Estimated Annual Burden
[OMB. No. 3064-0194]
Information collection (obligation to respond) | Type of burden (frequency of responses) | Number of respondents | Number of responses per respondents | Time per response (HH:MM) | Annual burden (hours)
Covered Financial Company Asset Sales Purchaser Eligibility Certification | Reporting | 66 | 1 | 02:30 | 165
Total Annual Burden (Hours): |  |  |  |  | 165
Source: FDIC.

General Description of Collection: The Covered Financial Company (CFC) Asset Purchaser Eligibility implements the statutory requirement that assets held by the FDIC in the course of liquidating any covered financial company not be sold to persons who contributed in specified ways to the demise of a covered financial company. The FDIC implemented this requirement in its regulations at 12 CFR 380.13. Prospective purchasers are required to complete and submit a Purchaser Eligibility Certification (PEC) to the FDIC. The PEC is a self-certification by a prospective purchaser that it does not fall into any of the categories of individuals or entities that are prohibited by statute or regulation from purchasing assets of a CFC. The PEC will be required of any individual or entity that is a potential purchaser of assets from the FDIC, whether in its corporate capacity or as a conservator or receiver, for (1) a CFC; or (2) a Bridge Financial Company (BFC).

The FDIC is increasing the total burden associated with this collection from 5 hours to 165 hours. The estimate for the number of respondents has increased from 10 to 66. The responses per respondent is unchanged from the 2021 submission. The estimate for hours per response represents a 1.5-hour increase from the 2021 submission. This increase is due to a change in calculation methodology.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, November 8, 2023.
James P. Sheesley,
Assistant Executive Secretary.

[FR Doc. 2023-25110 Filed 11-14-23; 8:45 am]

BILLING CODE P